OFFICE OF PERSONNEL MANAGEMENT

5 CFR Part 532

RIN 3206-AI97

Prevailing Rate Systems; Abolishment of the Washington, MD, Nonappropriated Fund Wage Area

AGENCY: Office of Personnel Management.

ACTION: Final rule.

SUMMARY: The Office of Personnel Management is issuing a final rule to abolish the Washington, Maryland, nonappropriated fund (NAF) Federal Wage System (FWS) wage area and establish a new Frederick, MD, NAF FWS wage area. This change is necessary because the Washington wage area's host installation, Fort Ritchie, is closing. This leaves the Department of Defense without an installation in the survey area capable of hosting annual local wage surveys.

DATES: The interim rule became effective on December 31, 1999. The interim rule is confirmed as final on May 15, 2000.

FOR FURTHER INFORMATION CONTACT: Jennifer Hopkins by phone at (202) 606-2848, by FAX at (202) 606-0824, or by email at jdhopkin@opm.gov.

SUPPLEMENTARY INFORMATION: On December 27, 1999, the Office of Personnel Management (OPM) published an interim rule (64 FR 72249) to abolish the Washington, Maryland, nonappropriated fund (NAF) Federal Wage System (FWS) wage area and establish a new Frederick, MD, NAF FWS wage area. Under section 5343 of title 5, United States Code, OPM is responsible for defining FWS wage areas. For this purpose, we follow the regulatory criteria in section 532.219(b) of title 5, Code of Federal Regulations.

The Washington wage area is presently composed of one survey county, Washington County, and two area of application counties, Frederick County, MD, and Berkeley County, WV. The closure of the Washington wage area's host activity, Fort Ritchie, left the Department of Defense (DOD) without an activity in the survey area capable of conducting annual local NAF wage surveys. Fort Ritchie ceased operations on October 1, 1998, and NAF FWS employees no longer work in Washington County. However, the area of application counties, Frederick and Berkeley, continue to have NAF FWS employment. Under section 5343(a)(1)(B)(i) of title 5, United States Code, NAF wage areas “shall not extend beyond the immediate locality in which the particular prevailing rate employees are employed.” Therefore, Washington County cannot be defined as part of an NAF wage area.

Frederick County, MD, has approximately 36 NAF FWS employees and a local Federal installation, Fort Detrick, has the capability to host annual local NAF wage surveys. Furthermore, Frederick County has more than the required minimum number of private enterprise employees in establishments within survey specifications. Approximately 10 NAF FWS employees work in Berkeley County, WV, which does not meet the criteria to be a separate NAF wage area. Therefore, the county must be an area of application. The new Frederick, MD, NAF wage area will have one survey county, Frederick County, MD, and one area of application county, Berkeley County, WV. DOD will order annual wage surveys in January of each even fiscal year. DOD ordered the first full-scale wage survey for the Frederick wage area in January 2000.

The Federal Prevailing Rate Advisory Committee, the national labor-management committee responsible for advising OPM on matters concerning the pay of FWS employees, has reviewed and concurred by consensus with this change. The interim rule had a 30-day public comment period, during which OPM did not receive any comments.

Regulatory Flexibility Act

I certify that this regulation will not have a significant economic impact on a substantial number of small entities because it will affect only Federal agencies and employees.

List of Subjects in 5 CFR Part 532

Administrative practice and procedure, Freedom of information, Government employees, Reporting and recordkeeping requirements, Wages.

Accordingly, under the authority of 5 U.S.C. 5343, the interim rule (64 FR 72249) amending 5 CFR part 532 published on December 27, 1999, is adopted as final with no changes.

Office of Personnel Management.
Janice R. Lachance,
Director.

[FR Doc. 00-12055 Filed 5-12-00; 8:45 am]

BILLING CODE 6325-01-P